DEPARTMENT OF TRANSPORTATION

Federal Aviation Administration

Notice of Intent To Request Revision From the Office of Management and Budget of a Currently Approved Information Collection Activity, Request for Comments; Information for the Prevention of Aircraft Collisions on Runways at Towered Airports

AGENCY: Federal Aviation Administration (FAA), DOT.

ACTION: Notice and request for comments.

SUMMARY: The FAA invites public comments about our intention to request the Office of Management and Budget (OMB) to approve a current information collection. Feedback from surveys will be used in the prevention of runway collisions and in the medication of the severity and frequency of runway incursions.

DATES: Please submit comments by October 15, 2007.

FOR FURTHER INFORMATION CONTACT: Carla Mauney on (202) 267-9895, or by e-mail at: Carla.Mauney@faa.gov.

SUPPLEMENTARY INFORMATION:

Federal Aviation Adminstration (FAA)

Title: Information for the Prevention of Aircraft Collisions on Runways at Towered Airports.

Type of Request: Extension of an approved collection.

OMB Control Number: 2120-0692.

Forms(s): There are no FAA forms associated with this collection.

Affected Public: A total of 10,000 respondents.

Frequency: The information is collected on occasion.

Estimated Average Burden Per Response: Approximately 10 minutes per response.

Estimated Annual Burden Hours: An estimated 1,670 hours annually.

Abstract: Runway incursions are at risk to the public traveling in aircraft. FAA has been concentrating on this issue for a decade and progress has been elusive, in part because of a lack of feedback from people working and flying on the runways in the NAS. Feedback from surveys will be used in the prevention of runway collisions and in the medication of the severity and frequency of runway incursions.

ADDRESS: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 8, 2007.
Carla Mauney,
FAA Information Collection Clearance Officer, IT Enterprises Business Services Division, AES-200.

[FR Doc. 07-3968 Filed 8-14-07; 8:45 am]

BILLING CODE 4910-13-M